FEDERAL COMMUNICATIONS COMMISSION

Notice of Public Information Collection(s) being Reviewed by the Federal Communications Commission for Extension Under Delegated Authority

November 1, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 7, 2005. If you anticipate that you will be submitting comments, but find it difficult to do so within the period of time allowed by this notice, you should advise the contact listed below as soon as possible.

ADDRESSES: Direct all Paperwork Reduction Act (PRA) comments to Les Smith, Federal Communications Commission, 445 12th Street, SW, Room 1-A804, Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION: OMB Control Number: 3060-0982.

Title: Implementation of LPTV Digital Data Services Pilot Project.

Form Number: N/A.

Type of Review: Extension of a currently approved collection.

Respondents: Business or other for-profit entities.

Number of Respondents: 14.

Estimated Time per Response: 0.25 hours-15 hours.

Frequency of Response: Recordkeeping requirement; On occasion, Quarterly and Annually reporting requirements; Third Party Disclosure requirement.

Total Annual Burden: 672 hours.

Total Annual Cost: $51,800.

Privacy Impact Assessment: No impact(s).

Needs and Uses: This collection implements the provisions of the LPTV Pilot Project Digital Data Services Act (DDSA). The DDSA mandates that the Commission issue regulations establishing a pilot project pursuant to which specified LPTV licensees or permittees can provide digital data services to demonstrate the feasibility of using LPTV stations to provide high-speed wireless digital data service. The Commission is required to implement reporting requirements under the statute. The data collected will be used to ensure that the proposal will not cause interference to other authorized services and to evaluate the project.

OMB Control Number: 3060-0449.

Title: Section 1.65(c), Substantial and Significant Changes in Information Furnished By Applicants to the Commission.

Form Number: N/A.

Type of Review: Extension of a currently approved collection.

Respondents: Individuals or household; Business or other for-profit entities; Not-for-profit institutions.

Number of Respondents: 6.

Estimated Time per Response: 1 hour 30 minutes.

Frequency of Response: Annual reporting requirement.

Total Annual Burden: 9 hours.

Total Annual Costs: None.

Privacy Impact Assessment: Yes.

Needs and Uses: 47 CFR Section 1.65(c) requires broadcast permittees and licensees to report annually any finding or adverse final action that involves conduct bearing on their character qualifications. This information enables the Commission to determine whether broadcast permittees and licensees maintain the requisite character qualifications to be a broadcast permittee or licensee during their license term.

Federal Communications Commission.
Marlene H. Dortch,
Secretary.

[FR Doc. 04-24833 Filed 11-5-04; 8:45 am]

BILLING CODE 6712-01-P